ENVIRONMENTAL PROTECTION AGENCY

40 CFR Part 52

[IA 159-1159a; FRL-7403-7]

Approval and Promulgation of Implementation Plans; State of Iowa

AGENCY: Environmental Protection Agency (EPA).

ACTION: Direct final rule.

SUMMARY: EPA is approving the State Implementation Plan (SIP) revision submitted by the state of Iowa. This revision pertains to orders and permits issued by the state to control particulate matter (PM10 missions from Holnam, Inc., and Lehigh Portland Cement Company at Mason City (Cerro Gordo County), Iowa. This approval will make the orders and permits Federally enforceable.

DATES: This direct final rule will be effective January 6, 2003, unless EPA receives adverse comments by December 6, 2002. If adverse comments are received, EPA will publish a timely withdrawal of the direct final rule in the Federal Register informing the public that the rule will not take effect.

ADDRESSES: Comments may be mailed to Royan Teter, Environmental Protection Agency, Air Planning and Development Branch, 901 North 5th Street, Kansas City, Kansas 66101.

Copies of documents relative to this action are available for public inspection during normal business hours at the above-listed Region 7 location. The interested persons wanting to examine these documents should make an appointment with the office at least 24 hours in advance.

FOR FURTHER INFORMATION CONTACT: Royan Teter at (913) 551-7609.

SUPPLEMENTARY INFORMATION: Throughout this document whenever “we,” “us,” or “our” is used, we mean EPA. This section provides additional information by addressing the following questions:

What is a SIP?

What is the Federal approval process for a SIP?

What does Federal approval of a state regulation mean to me?

What is being addressed in this document?

Have the requirements for approval of a SIP revision been met?

What action is EPA taking?

What Is a SIP?

Section 110 of the Clean Air Act (CAA) requires states to develop air pollution regulations and control strategies to ensure that state air quality meets the national ambient air quality standards (NAAQS) established by EPA. These ambient standards are established under section 109 of the CAA, and they currently address six criteria pollutants. These pollutants are: carbon monoxide, nitrogen dioxide, ozone, lead, particulate matter, and sulfur dioxide.

Each state must submit these regulations and control strategies to us for approval and incorporation into the Federally-enforceable SIP.

Each Federally-approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally-enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally-approved SIP. Records of such SIP actions are maintained in the Code of Federal Regulations (CFR) at Title 40, Part 52, entitled “Approval and Promulgation of Implementation Plans.” The actual state regulations which are approved are not reproduced in their entirety in the CFR outright but are “incorporated by reference,” which means that we have approved a given state regulation with a specific effective date.

What Does Federal Approval of a State Regulation Mean to Me?

Enforcement of the state regulation (this can also include state orders and permits) before and after it is incorporated into the Federally-approved SIP is primarily a state responsibility. However, after the regulation is Federally approved, we are authorized to take enforcement action against violators. Citizens are also offered legal recourse to address violations as described in section 304 of the CAA.

What Is Being Addressed in This Document?

From 1993 to 1996, there were numerous exceedances of the 24-hour PM10 NAAQS at the ambient air monitor located in Mason City, Iowa. The measured exceedances ranged from 172 to 286 μg/m³. The 24-hour standard is 150 μg/m³. Additional exceedances were recorded during 1999 and 2000.

The two major stationary facilities identified as contributors to the monitored exceedances were Lehigh Portland Cement Company and Holnam, Inc. These companies operate Portland cement production facilities in the vicinity of the PM10 ambient air monitor which recorded the exceedances of the NAAQS.

The Iowa Department of Natural Resources (IDNR), Air Quality Bureau, over the course of several years, developed a control strategy for each company which requires emission controls on numerous point, area, and fugitive emission sources. These requirements were incorporated into Administrative Consent Orders (A.C.O.) for each company. Additionally, permit conditions were developed or revised to reflect the A.C.O. control requirements.

The orders and permits establish enforceable (1) emission rates, (2) limitations on hours of operations, (3) limitations on daily and annual process rates (throughput), and (4) limitations on size and location of storage piles for raw material, fuels, and clinker. Fugitive emissions are to be controlled by the application of dust suppressants, sweeping, adherence to established speed limits, and limiting the number of daily and annual truck trips. Both facilities must be fenced to preclude public access. In addition, at Lehigh the coal crusher (source ID 40) is to be operated only in an enclosed structure.

Specifically, we are approving Administrative Consent Order No. 1999-AQ-31 between the IDNR and Holnam, Inc., signed by the state on September 2, 1999, and the Consent Amendment to the same order signed by the state on May 16, 2001. We are also approving the construction permits related to the A.C.O.

We are approving Administrative Consent Order No. 1999-AQ-32 between the IDNR and Lehigh Portland Cement Company signed by the state on September 2, 1999. We are also approving the construction permits related to the A.C.O.

Air quality modeling results demonstrate that the control measures contained in the Administrative Consent Orders and permits will ensure attainment and maintenance of the PM10 NAAQS. Additional information concerning the state submittal is contained in the technical support document for this action which is available from the EPA contact above.

Have the Requirements for Approval of a SIP Revision Been Met?

The state submittal has met the public notice requirements for SIP submissions in accordance with 40 CFR 51.102. The submittal also satisfied the completeness criteria of 40 CFR part 51, appendix V. In addition, as explained above and in more detail in the technical support document, the revision meets the substantive SIP requirements of the CAA, including section 110 and implementing regulations.

What Action Is EPA Taking?

We are approving as a revision to the Iowa SIP, A.C.Os. for Holnam, Inc., and Lehigh Portland Cement Company in Mason City, Iowa. We are also approving the related construction permits for each company. We are processing this action as a final action because we do not anticipate any adverse comments. Please note that if EPA receives adverse comment on part of this rule and if that part can be severed from the remainder of the rule, EPA may adopt as final those parts of the rule that are not the subject of an adverse comment.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045, “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 6, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements, Sulfur oxides.

Dated: October 23, 2002.
William W. Rice,
Acting Regional Administrator, Region 7.

Chapter I, title 40 of the Code of Federal Regulations is amended as follows:

PART 52—[AMENDED]

1. The authority citation for part 52 continues to read as follows:

Authority: 42 U.S.C. 7401 et seq.

Subpart Q—Iowa

2. In § 52.820 paragraph (d) is amended by:

a. Revising the heading for paragraph (d).

b. Revising the heading for table (d).

c. Adding entries at the end of the table for Holnam, Inc., and Lehigh Portland Cement Company.

The revisions and additions read as follows:

§ 52.820 Identification of plan.

* * * * *

(d) EPA-approved State source-specific orders/permits

EPA-Approved Iowa Source—Specific Orders/Permits
Name of source | Order/permit No. | State effective date | EPA approval date | Comments
* * * * * * *
Holnam, Inc | A.C.O. 1999-AQ-31 | 9/2/1999 | November 6, 2002, and FR page citation | For a list of the 47 permits issued for individual emission points see IDNR letters to Holnam, Inc., dated 7/24/01.
Holnam, Inc | Consent Amendment to A.C.O. 1999-AQ-31 | 5/16/2001 | November 6, 2002, and FR page citation | For a list of the 47 permits issued for individual emission points see IDNR letters to Holnam, Inc., dated 7/24/01.
Holnam, Inc | Permits for 17-01-009, Project Nos. 99-511 and 00-468 | 7/24/2001 | November 6, 2002, and FR page citation | For a list of the 47 permits issued for individual emission points see IDNR letters to Holnam, Inc., dated 7/24/01.
Lehigh Portland Cement Company | A.C.O. 1999-AQ-32 | 9/2/1999 | November 6, 2002, and FR page citation | For a list of the 41 permits issued for individual emission points see IDNR letters to Lehigh dated 7/24/01 and 2/18/02.
Lehigh Portland Cement Company | Permits for plant No. 17-01-005, Project Nos. 99-631 and 02-037 | 2/18/2002 | November 6, 2002, and FR page citation | For a list of the 41 permits issued for individual emission points see IDNR letters to Lehigh dated 7/24/01 and 2/18/02.

* * * * *

[FR Doc. 02-27838 Filed 11-5-02; 8:45 am]

BILLING CODE 6560-50-P